ENVIRONMENTAL PROTECTION AGENCY

[EPA-HQ-OPP-2022-0417; FRL-11041-01-OMS]

Notice of Objections to Chlorpyrifos; Notice of Intent To Cancel Pesticide Registrations; Notice of Public Hearing

AGENCY: Environmental Protection Agency (EPA).

ACTION: Notice of objections and public hearing.

SUMMARY: The Environmental Protection Agency (EPA or Agency) has received objections and hearing requests in response to its issuance of a Notice of Intent to Cancel registrations of three pesticide products containing the insecticide chlorpyrifos due to the Agency's revocation of all tolerances for chlorpyrifos. The EPA will hold a public hearing to receive evidence related to the proposed cancellation of the chlorpyrifos product registrations.

DATES: A public hearing will be held beginning at 9 a.m. January 8, 2024, and continue as necessary through January 11, 2024.

ADDRESSES: The public hearing will take place in the EPA Administrative Courtroom, EPA East Building, Room 1152, 1201 Constitution Ave. NW, Washington, DC 20460.

FOR FURTHER INFORMATION CONTACT: Mary Angeles, Headquarters Hearing Clerk, Office of Administrative Law Judges, 1200 Pennsylvania Ave. NW, Mail Code 1900R, Washington, DC 20460; telephone number: (202) 564-6281; email address: angeles.mary@epa.gov.

SUPPLEMENTARY INFORMATION:

I. General Information

A. Does this action apply to me?

This action is directed to the public in general and may be of interest to a wide range of stakeholders including environmental, human health, farm worker and agricultural advocates; the chemical industry; pesticide users; and members of the public interested in the sale, distribution, or use of pesticides. Since others also may be interested, the Agency has not attempted to describe all the specific entities that may be affected by this action.

B. How can I get copies of this document and other related information?

The regulatory docket for this action, identified by docket identification number EPA-HQ-OPP-2022-0417, is available electronically at https://www.regulations.gov or in hard copy at the Office of Pesticide Programs Regulatory Public Docket (OPP Docket) in the EPA Docket Center, (EPA/DC) EPA West, Room 3334, 1301 Constitution Ave. NW, Washington, DC. The EPA Docket Center Public Reading Room is open from 8:30 a.m. to 4:30 p.m., Monday through Friday, excluding legal holidays. The telephone number for the Public Reading Room is (202) 566-1744.

The adjudication docket for the proceeding in which petitioners have requested a public hearing, captioned In re Chlorpyrifos; Notice of Intent to Cancel Pesticide Registrations and identified by docket number FIFRA-HQ-2023-0001, is available electronically on the website of the EPA's Office of Administrative Law Judges at: https://yosemite.epa.gov/oarm/alj/alj_web_docket.nsf/Active+Dockets?OpenView.

II. Public Hearing to be Held on Objections to EPA's Notice of Intent to Cancel Pesticide Registrations

EPA previously published (87 FR 76474, Dec. 14, 2022) a Notice of Intent to Cancel (NOIC) the registration of the following three pesticide products pursuant to its authority under Section 6(b) of the Federal Insecticide, Fungicide and Rodenticide Act (FIFRA), 7 U.S.C. 136d(b):

• EPA Reg. No. 93182-3 Chlorpyrifos Technical.

• EPA Reg. No. 93182-7 Pilot 4E Chlorpyrifos Agricultural Insecticide.

• EPA Reg. No. 93182-8 Pilot 15G Chlorpyrifos Agricultural Insecticide.

Section 6(b) of FIFRA provides that any person adversely affected by the NOIC may request a hearing on the proposed cancellation within 30 days of the registrant receiving the notice or of the notice's publication, whichever comes later. 7 U.S.C. 136d(d). On January 13, 2023, Gharda Chemicals International, Inc., the registrant for the pesticide products proposed for cancellation, filed an objection to the NOIC and requested a hearing. Also on January 13, 2023, the following 19 entities jointly filed an objection to the NOIC and requested a hearing: Red River Valley Sugarbeet Growers Association, U.S. Beet Sugar Association, American Sugarbeet Growers Association, Southern Minnesota Beet Sugar Cooperative, American Crystal Sugar Company, Minn-Dak Farmers Cooperative, American Farm Bureau Federation, American Soybean Association, Iowa Soybean Association, Minnesota Soybean Growers Association, Missouri Soybean Association, Nebraska Soybean Association, South Dakota Soybean Association, North Dakota Soybean Growers Association, National Association of Wheat Growers, Cherry Marketing Institute, Florida Fruit and Vegetable Association, Georgia Fruit and Vegetable Growers Association, and National Cotton Council of America.

The hearing requests commenced a proceeding under Section 6(d) of FIFRA, 7 U.S.C. 136d(d), and the EPA's procedural rules, 40 CFR 164, before the EPA's Office of Administrative Law Judges. The proceeding includes a public hearing that will be held to receive evidence from the parties relevant and material to issues raised by the petitioners' objections to the proposed cancellation of the listed chlorpyrifos pesticide product registrations.

As set forth in DATES and ADDRESSES, the hearing will begin at 9 a.m. January 8, 2024, and continue as necessary through January 11, 2024, in the EPA Administrative Courtroom, EPA East Building, Room 1152, 1201 Constitution Ave. NW, Washington, DC 20460. Anyone wishing to attend the hearing must notify Mary Angeles, Headquarters Hearing Clerk, Office of Administrative Law Judges, by email no later than January 2, 2024, at the email address listed under FOR FURTHER INFORMATION CONTACT. A notice of intent to attend the hearing shall include the individual's name, email address, telephone number, and any organization they represent. On the day of the hearing, attendees must present government-issued identification to enter EPA facilities. Attendees may face further restrictions on entry based on the community level of COVID-19 at the time of the hearing.

Authority: 7 U.S.C. 136 et seq.; 40 CFR 164.

Susan Biro,
Chief Administrative Law Judge.

[FR Doc. 2023-13115 Filed 6-20-23; 8:45 am]

BILLING CODE 6560-50-P